DEPARTMENT OF ENERGY

Federal Energy Regulatory Commission

[Docket No. RP02-17-000 and CP00-65-005]

Tennessee Gas Pipeline Company; Notice of Compliance Filing and Associated Tariff Filing

October 12, 2001.

Take notice that on October 4, 2001, Tennessee Gas Pipeline Company (Tennessee) hereby tenders for filings as part of its FERC Gas Tariff, Fifth Revised Volume No. 1, the tariff sheets identified in Appendix A of the filing, with an effective date of November 3, 2001.

Tennessee states that the filing is being made in compliance with the Commission's February 23, 2001 “Order Issuing Certificates and Authorizing Abandonment” and April 23, 2001 “Order on Rehearing and Clarification in Docket Nos. CP00-65-000, et al.

Tennessee states that the purpose of this filing is to implement the recourse rates authorized by the Orders and to establish a new firm rate schedule applicable to incrementally priced lateral facilities in response to, and in compliance with, the service conditions placed on the Stagecoach Lateral by the Orders.

Tennessee states that copies of the filing has been mailed to each of its customers and affected state regulatory commissions and to each of the parties that intervened in the certificate docket referenced above.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26242 Filed 10-17-01; 8:45 am]

BILLING CODE 6717-01-P